DEPARTMENT OF AGRICULTURE

Submission for OMB Review; Comment Request

January 31, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 7, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Laboratories.

OMB Control Number: 0583-0158.

Summary of Collection: The Food Safety and Inspection Service (FSIS) has been delegated the authority to exercise the functions of the Secretary as provided in the Federal Meat Inspection Act (FMIA) (21 U. S.C. 601 et seq.), the Poultry Products Inspection Act (PPIA) (21 U.S.C. 451, et seq.), and the Egg Products Inspection Act (EPIA) (21 U.S.C. 1031). These statues mandate that FSIS protect the public by verifying that meat and poultry products are safe, wholesome, unadulterated, and properly labeled and packaged.

Need and Use of the Information: FSIS will use two forms to collect information to help assess laboratories participating in the pasteurized egg product or the Accredited Laboratory programs, to ensure they meet required standards. FSIS will use the PEPRL-F-0008-05 form as a self assessment audit checklist to collect information related to the quality assurance/quality control procedures in place at in-plant and private laboratories participating n the Pasteurized Egg Product Recognized Laboratory program. FSIS uses the data collected in the desk audit of existing labs or in the appraisal of a new applicant. Any non-federal laboratory that is applying for the FSIS Accredited Laboratory program will need to complete an Application for FSIS Accredited Laboratory Program 10,110-2 form. FSIS will use the information collected by the form to help access the laboratory applying for admission to the FSIS Accredited Laboratory program.

Description of Respondents: Business or other for-profit.

Number of Respondents: 14.

Frequency of Responses: Reporting: Annually.

Total Burden Hours: 13.

Food Safety and Inspection Service

Title: Records to be Kept by Official Establishments and Retail Stores that Grind Raw Beef Products.

OMB Control Number: 0583-0165.

Summary of Collection: The Food Safety and Inspection Service (FSIS) has been delegated the authority to exercise the functions of the Secretary as provided in the Federal Meat Inspection Act (FMIA) (21 U. S.C. 601 et seq.). These statues mandate that FSIS protect the public by verifying that meat and poultry products are safe, wholesome, not adulterated, and properly labeled and packaged.

Need and Use of the Information: FSIS requires that all establishments and retail stores that grind raw beef products for sale in commerce, including products ground at a customer's request, are required to maintain certain records which will fully and correctly disclose all transactions involved in their business subject to the Act. In addition, FSIS requires that specific information be kept in the required records and and that retail stores maintain store-designed systems that allow them to link individual packages of raw ground or chopped beef products prepared and sold by them to the required records.

Description of Respondents: Business or other for-profit.

Number of Respondents: 65,911.

Frequency of Responses: Recordkeeping: Weekly, Annually; Monthly.

Total Burden Hours: 3,317,301.

Ruth Brown,
Departmental Information Collection Clearance Officer.

[FR Doc. 2019-01054 Filed 2-4-19; 8:45 am]

BILLING CODE 3410-DM-P